DEPARTMENT OF HOMELAND SECURITY

U.S. Customs and Border Protection

Notice of Cancellation of Customs Broker Licenses

AGENCY: U.S. Customs and Border Protection, U.S. Department of Homeland Security.

ACTION: General Notice.

SUMMARY: Pursuant to section 641 of the Tariff Act of 1930, as amended (19 U.S.C. 1641), and the Customs Regulations (19 CFR 111.51), the following Customs broker licenses and all associated permits are cancelled without prejudice.

Name | License No. | Issuing port
Mid-Atlantic Trade Services, Inc. | 15081 | Baltimore.
T.H. Kelly International Inc. | 13097 | San Francisco.

Dated: March 5, 2009.
Daniel Baldwin,
Assistant Commissioner, Office of International Trade.

[FR Doc. E9-5419 Filed 3-12-09; 8:45 am]

BILLING CODE 9111-14-P